DEPARTMENT OF HEALTH AND HUMAN SERVICES

Office of the National Coordinator for Health Information Technology; American Health Information Community Meeting

ACTION: Amendment of Meeting Announcement, dated December 26, 2007.

SUMMARY: This notice amends the meeting date for the 19th meeting of the American Health Information Community in accordance with the Federal Advisory Committee Act (Pub. L. No. 92-463, 5 U.S.C., App.) The American Health Information Community will advise the Secretary and recommend specific actions to achieve a common interoperability framework for health information technology (IT).

Revised Meeting Date: January 22, 2008, from 8:30 to 12:00 p.m. (previously scheduled on January 15, 2008).

ADDRESSES: Hubert H. Humphrey building (200 Independence Avenue, SW., Washington, DC 20201), Conference Room 800.

SUPPLEMENTARY INFORMATION: The meeting will include presentations by the Population Health/Clinical Care Connections Workgroup and Electronic Health Records Workgroup on Recommendations to the Community; an update on the Health IT Physician Adoption Survey results; an update on the Healthcare Information Technology Standards Panel (HITSP) Interoperability Specifications; and an update on the findings from the Enhancing Data Quality in EHRs Report.

For further information, visit http://www.hhs.gov/healthit/ahic.html. A Web cast of the Community meeting will be available on the NIH Web site at: http://www.videocast.nih.gov/.

If you have special needs for the meeting, please contact (202) 690-7151.

Dated: December 27, 2007.
Judith Sparrow,
Director, American Health Information Community, Office of Programs and Coordination, Office of the National Coordinator for Health Information Technology.

[FR Doc. 07-6281 Filed 1-3-08; 8:45 am]

BILLING CODE 4150-45-M